FEDERAL ELECTION COMMISSION

[Notice 2009-20]

Filing Dates for the Massachusetts Senate Special Election

AGENCY: Federal Election Commission.

ACTION: Notice of filing dates for special election.

SUMMARY: Massachusetts has scheduled elections on December 8, 2009, and January 19, 2010, to fill the vacant U.S. Senate seat held by the late Senator Edward M. Kennedy.

Committees required to file reports in connection with the Special Primary Election on December 8, 2009, shall file a 12-day Pre-Primary Report. Committees required to file reports in connection with both the Special Primary and Special General Election on January 19, 2010, shall file a 12-day Pre-Primary Report, a consolidated 12-day Pre-General and Year-End Report, and a 30-day Post-General Report.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the Massachusetts Special Primary and Special General Elections shall file a 12-day Pre-Primary Report on November 26, 2009; a consolidated 12-day Pre-General and Year-End Report on January 7, 2010; and a 30-day Post-General Report on February 18, 2010. (See chart below for the closing date for each report).

All principal campaign committees of candidates participating only in the Special Primary Election shall file a 12-day Pre-Primary Report on November 26, 2009, and a Year End report on January 31, 2010. (See chart below for the closing date for each report).

Unauthorized Committees (PACs and Party Committees)

Political committees filing on a semi-annual basis in 2009 or a quarterly basis in 2010 are subject to special election reporting if they make previously undisclosed contributions or expenditures in connection with the Massachusetts Special Primary or Special General Elections by the close of books for the applicable report(s). (See chart below for the closing date for each report).

Committees filing monthly that support candidates in the Massachusetts Special Primary or Special General Elections should continue to file according to the monthly reporting schedule.

Additional disclosure information in connection with the Massachusetts Special Election may be found on the FEC Web site at http://www.fec.gov/info/report_dates.shtml.

Calendar of Reporting Dates for Massachusetts Special Election
Report | Close of books ¹ | Reg./cert. & overnight mailing deadline | Filing deadline
Committees Involved in Only the Special Primary (12/08/09) Must File:
Pre-Primary | 11/18/09 | 11/23/09 | ² 11/26/09
Year-End | 12/31/09 | 01/31/10 | ² 01/31/10
Committees Involved in Both the Special Primary (12/08/09) and Special General (01/19/10) Must File:
Pre-Primary | 11/18/09 | 11/23/09 | ² 11/26/09
Pre-General & Year End ³ | 12/31/09 | 01/04/10 | 01/07/10
Post-General | 02/08/10 | 02/18/10 | 02/18/10
April Quarterly | 03/31/10 | 04/15/10 | 04/15/10
Committees Involved in Only the Special General (01/19/10) Must File:
Pre-General & Year End ³ | 12/31/09 | 01/04/10 | 01/07/10
Post-General | 02/08/10 | 02/18/10 | 02/18/10
April Quarterly | 03/31/10 | 04/15/10 | 04/15/10
¹ The reporting period always begins the day after the closing date of the last report filed. If the committee is new and has not previously filed a report, the first report must cover all activity that occurred before the committee registered as a political committee with the Commission up through the close of books for the first report due.
² Notice that the filing deadline falls on a weekend or federal holiday. Filing deadlines are not extended when they fall on nonworking days.
³ Committees should file a consolidated Pre-General & Year-End Report by the filing deadline of the Pre-General Report.

Dated: September 10, 2009.
On behalf of the Commission,
Steven T. Walther,
Chairman, Federal Election Commission.

[FR Doc. E9-22257 Filed 9-15-09; 8:45 am]

BILLING CODE 6715-01-P